Title 3—

The President

Executive Order 13227 of October 2, 2001

President's Commission on Excellence in Special Education

By the authority vested in me as President by the Constitution and the laws of the United States of America, it is hereby ordered as follows:

Section 1. Policy. The education of all children, regardless of background or disability, while chiefly a State and local responsibility, must always be a national priority. One of the most important goals of my Administration is to support States and local communities in creating and maintaining a system of public education where no child is left behind. Unfortunately, among those at greatest risk of being left behind are children with disabilities. The Individuals with Disabilities Education Act (IDEA) is a landmark statute that asserts the rights of all children with disabilities to a free, appropriate public education. My Administration strongly supports the principles embodied in the IDEA and the goal of providing special education and related services to children with disabilities so that they can meet high academic standards and participate fully in American society. It is imperative that special education operate as an integral part of a system that expects high achievement of all children, rather than as a means of avoiding accountability for children who are more challenging to educate or who have fallen behind.

Sec. 2. Establishment. There is established a President's Commission on Excellence in Special Education (the “Commission”). The Commission shall be composed of not more than 19 members to be appointed by the President from the public and private sectors, as well as up to 5 ex officio members from the Departments of Education and Health and Human Services. The members may include current and former Federal, State, and local government officials, recognized special education experts, special and general education finance experts, education researchers, educational practitioners, parents of children or young adults with disabilities, persons with disabilities, and others with special experience and expertise in the education of children with disabilities. The President shall designate a Chairperson from among the members of the Commission. The Secretary of Education shall select an Executive Director for the Commission.

Sec. 3. Duties and Commission Report. (a) The Commission shall collect information and study issues related to Federal, State, and local special education programs with the goal of recommending policies for improving the educational performance of students with disabilities. In furtherance of its duties, the Commission shall invite experts and members of the public to provide information and guidance.

(b) Not later than April 30, 2002, the Commission shall prepare and submit a report to the President outlining its findings and recommendations. The report shall include, but need not be limited to:

(1) An examination of available research and information on the effectiveness and cost of special education and the appropriate role of the Federal Government in special education programming and funding. The examination shall include an analysis of the factors that have contributed to the growth in costs of special education since the enactment of the Education for All Handicapped Children Act (a predecessor of IDEA);

(2) Recommendations regarding how Federal resources can best be used to improve educational results for students with disabilities;

(3) A recommended special education research agenda;

(4) An analysis of the impact of providing appropriate early intervention in reading instruction on the referral and identification of children for special education;

(5) An analysis of the effect of special education funding on decisions to serve, place, or refer children for special education services and recommendations for alternative funding formulae that might distribute funds to achieve better results and eliminate any current incentives that undermine the goals of ensuring that children with disabilities receive a high-quality education;

(6) An analysis of, and recommendations regarding, how the Federal Government can help States and local education agencies provide a high-quality education to students with disabilities, including the recruitment and retention of qualified personnel and the inclusion of children with disabilities in performance and accountability systems;

(7) An analysis of the impact of Federal and State statutory, regulatory, and administrative requirements on the cost and effectiveness of special education services, and how these requirements support or hinder the educational achievement of students with disabilities;

(8) An assessment of how differences in local educational agency size, location, demographics, and wealth, and in State law and practice affect which children are referred to special education, and the cost of special education; and

(9) A review of the experiences of State and local governments in financing special education, and an analysis of whether changes to the Federal “supplement not supplant” and “maintenance of effort” requirements are appropriate.

Sec. 4. Administration, Compensation, and Termination.

(a) The Department of Education shall, to the extent permitted by law, provide administrative support and funding for the Commission. In addition, appropriate Federal agencies may designate staff to assist with the work of the Commission. To the extent permitted by law, Federal Government employees may be detailed to the Commission without reimbursement to the Federal agency.

(b) Members of the Commission shall serve without compensation but, while engaged in the work of the Commission, members appointed from among private citizens of the United States shall be allowed travel expenses, including per diem in lieu of subsistence, as authorized by law for persons serving intermittently in the government service (5 U.S.C. 5701-5707), to the extent funds are available for such purposes.

(c) The functions of the President under the Federal Advisory Committee Act that are applicable to the Commission, except that of reporting to the Congress, shall be performed by the Department of Education in accordance with the guidelines that have been issued by the Administrator of General Services.

(d) The Chairperson may from time to time prescribe such rules, procedures, and policies relating to the activities of the Commission as are not inconsistent with law or with the provisions of this order.

(e) The Commission shall terminate 30 days after submitting its final report, unless extended by the President.

B

THE WHITE HOUSE,

October 2, 2001.

[FR Doc. 01-25344

Filed 10-4-01; 10:05 am]

Billing code 3195-01-P